FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (www.fmc.gov) or contacting the Office of Agreements at (202) 523-5793 or tradeanalysis@fmc.gov.

Agreement No.: 010982-044.

Title: Florida-Bahamas Shipowners and Operators Association.

Parties: Atlantic Caribbean Line, Inc.; Bernuth Lines, Ltd.; Crowley Liner Services, Inc.; Seaboard Marine, Ltd.; Seafreight Line, Ltd.; and Tropical Shipping and Construction Co., Ltd.

Filing Party: Wayne R. Rohde, Esq., Sher & Blackwell LLP, 1850 M Street, NW., Suite 900, Washington, DC 20036.

Synopsis: The amendment deletes Pioneer Shipping Ltd. as a party to the agreement.

Agreement No.: 011953-006.

Title: Florida Shipowners Group Agreement.

Parties: The member lines of the Caribbean Shipowners Association and the Florida-Bahamas Shipowners and Operators Association.

Filing Party: Wayne R. Rhode, Esq., Sher & Blackwell, LLP, 1850 M Street, NW., Suite 900, Washington, DC 20036.

Synopsis: The amendment reflects the resignation of Pioneer Shipping Ltd. from the Florida-Bahamas Shipowners and Operators Association.

Agreement No.: 012049.

Title: Amazon Service Agreement.

Parties: Kawasaki Kisen Kaisha, Ltd. and Bringer Corporation, dba Bringer Lines.

Filing Party: Howard A. Levy, Esq., 80 Wall Street, Suite 1117, New York, NY 10005.

Synopsis: The agreement authorizes the parties to share vessel space in the trade between United States ports and ports in the Caribbean and Brazil.

Agreement No.: 012050.

Title: SeaFreight /Zim Space Charter Agreement.

Parties: SeaFreight Line, Ltd. and Zim Integrated Shipping Services, Ltd.

Filing Party: Wayne R. Rohde, Esq., Sher & Blackwell LLP, 1850 M Street, Suite 900, Washington, DC 20036.

Synopsis: The agreement would authorize SeaFreight to charter space to Zim in the trade between Port Everglades, FL, and Kingston, Jamaica.

By Order of the Federal Maritime Commission.
Dated: September 19, 2008.
Karen V. Gregory,
Assistant Secretary.

[FR Doc. E8-22473 Filed 9-23-08; 8:45 am]

BILLING CODE 6730-01-P